DEPARTMENT OF TRANSPORTATION

Federal Aviation Administration

14 CFR Part 39

[Docket No. FAA-2010-0384; Directorate Identifier 2010-NM-003-AD; Amendment 39-16449; AD 2010-20-14]

RIN 2120-AA64

Airworthiness Directives; McDonnell Douglas Corporation Model DC-10-10, DC-10-10F, DC-10-15, DC-10-30, DC-10-30F (KC-10A and KDC-10), DC-10-40, DC-10-40F, MD-10-10F, MD-10-30F, MD-11, and MD-11F Airplanes

AGENCY: Federal Aviation Administration (FAA), DOT.

ACTION: Final rule.

SUMMARY: We are adopting a new airworthiness directive (AD) for certain Model DC-10-10, DC-10-10F, DC-10-15, DC-10-30, DC-10-30F (KC-10A and KDC-10), DC-10-40, DC-10-40F, MD-10-10F, MD-10-30F, MD-11, and MD-11F airplanes. This AD requires installing an in-line fuse in certain float level switches and sleeving the wires between the fuel tank and the in-line fuse. For certain airplanes, this AD also requires installing an in-line fuse in certain fuel pump pressure switches. This AD results from fuel system reviews conducted by the manufacturer. We are issuing this AD to prevent fuel tank explosions and consequent loss of the airplane.

DATES: This AD is effective November 5, 2010.

The Director of the Federal Register approved the incorporation by reference of certain publications listed in the AD as of November 5, 2010.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Discussion

We issued a notice of proposed rulemaking (NPRM) to amend 14 CFR part 39 to include an airworthiness directive (AD) that would apply to certain Model DC-10-10, DC-10-10F, DC-10-15, DC-10-30, DC-10-30F (KC-10A and KDC-10), DC-10-40, DC-10-40F, MD-10-10F, MD-10-30F, MD-11, and MD-11F airplanes. That NPRM was published in the Federal Register on April 21, 2010 (75 FR 20790). That NPRM proposed to require installing an in-line fuse in certain float level switches and sleeving the wires between the fuel tank and the in-line fuse. For certain airplanes, that NPRM also proposed to require installing an in-line fuse in certain fuel pump pressure switches.

Comments

We gave the public the opportunity to participate in developing this AD. We considered the comments received.

Request To Reference Information Notices or Revise Service Bulletin

FedEx requested that Boeing Service Bulletin Information Notices (IN) MD11-28-132 IN 01, dated December 3, 2008; MD11-28-132 IN 02, dated March 18, 2010; and MD11-28-132 IN 03, dated March 25, 2010; be referenced in the NPRM as an approved deviation from Boeing Service Bulletin MD11-28-132, dated November 25, 2008, or that Boeing revise that service bulletin to incorporate the changes outlined in those INs. FedEx stated that, as the NPRM is written, the compliance requirements will prevent FedEx from complying with the NPRM unless an alternative method of compliance (AMOC) is granted.

We partially agree. Since the issuance of the NPRM, Boeing has issued Service Bulletin MD11-28-132, Revision 1, dated July 6, 2010, to incorporate the changes outlined in Boeing Service Bulletin INs MD11-28-132 IN 01, dated December 3, 2008; MD11-28-132 IN 02, dated March 18, 2010; and MD11-28-132 IN 03, dated March 25, 2010. The revised service bulletin has only editorial changes with no additional work required. We have changed this AD to reference Boeing Service Bulletin MD11-28-132, Revision 1, dated July 6, 2010, in paragraphs (c)(2) and (g)(2) of this AD.

We have also added paragraph (i) to this AD to give credit for actions done before the effective date of this AD in accordance with Boeing Service Bulletin MD11-28-132, dated November 25, 2008.

Additional Change Made to This AD

We have revised paragraph (g)(1) of this AD to refer to Boeing Service Bulletin DC10-28-252, Revision 1, dated January 6, 2010, which describes editorial changes, but no new actions. We have added paragraph (h) to this AD to give credit for actions done before the effective date of this AD in accordance with Boeing Service Bulletin DC10-28-252, dated November 25, 2008.

Conclusion

We reviewed the relevant data, considered the comment received, and determined that air safety and the public interest require adopting the AD with the changes described previously. We also determined that these changes will not increase the economic burden on any operator or increase the scope of the AD.

Costs of Compliance

We estimate that this AD will affect 281 airplanes of U.S. registry. The following table provides the estimated costs for U.S. operators to comply with this AD.

Table—Estimated Costs
Action | Work hours | Average labor rate per hour | Parts | Cost per product | Number of U.S.-registered airplanes | Fleet cost
Installation/Sleeving | Between 64 and 136¹ | $85 | Between $3,139 and $5,598¹ | Between $8,579 and $17,158 | 281 | Between $2,410,699 and $4,821,398.
¹ Depending on airplane configuration.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-20-14 McDonnell Douglas Corporation: Amendment 39-16449. Docket No. FAA-2010-0384; Directorate Identifier 2010-NM-003-AD.

Effective Date

(a) This airworthiness directive (AD) is effective November 5, 2010.

Affected ADs

(b) None.

Applicability

(c) This AD applies to the airplanes identified in paragraphs (c)(1) and (c)(2) of this AD.

(1) McDonnell Douglas Corporation Model DC-10-10, DC-10-10F, DC-10-15, DC-10-30, DC-10-30F (KC-10A and KDC-10), DC-10-40, DC-10-40F, MD-10-10F, and MD-10-30F airplanes; certificated in any category; as identified in Boeing Service Bulletin DC10-28-252, Revision 1, dated January 6, 2010.

(2) McDonnell Douglas Corporation Model MD-11 and MD-11F airplanes; certificated in any category; as identified in Boeing Service Bulletin MD11-28-132, Revision 1, dated July 6, 2010.

Subject

(d) Air Transport Association (ATA) of America Code 28: Fuel.

Unsafe Condition

(e) This AD results from fuel system reviews conducted by the manufacturer. The Federal Aviation Administration is issuing this AD to prevent fuel tank explosions and consequent loss of the airplane.

Compliance

(f) You are responsible for having the actions required by this AD performed within the compliance times specified, unless the actions have already been done.

Installation

(g) Within 60 months after the effective date of this AD do the actions specified in paragraph (g)(1) or (g)(2) of this AD, as applicable.

(1) For Model DC-10-10, DC-10-10F, DC-10-15, DC-10-30, DC-10-30F (KC-10A and KDC-10), DC-10-40, DC-10-40F, MD-10-10F, and MD-10-30F airplanes: Install an in-line fuse in each float level switch and pressure switch, including sleeving the wires between the fuel tank and the in-line fuse, in fuel tanks 1, 2, and 3; upper and lower auxiliary fuel tanks; forward and aft auxiliary fuel tanks; and center wing fuel tanks; as applicable; in accordance with the Accomplishment Instructions of Boeing Service Bulletin DC10-28-252, Revision 1, dated January 6, 2010.

(2) For Model MD-11 and MD-11F airplanes: Install an in-line fuse in each float level switch, including sleeving the wires between the fuel tank and the in-line fuse, in fuel tanks 1, 2, and 3; upper and lower auxiliary fuel tanks; forward auxiliary fuel tank; center wing fuel tanks; and tail fuel tank; as applicable; in accordance with the Accomplishment Instructions of Boeing Service Bulletin MD11-28-132, Revision 1, dated July 6, 2010.

Installation According to Previous Issues of Service Bulletins

(h) Installing an in-line fuse in each float level switch and pressure switch, including sleeving the wires between the fuel tank and the in-line fuse, in fuel tanks 1, 2, and 3; upper and lower auxiliary fuel tanks; forward and aft auxiliary fuel tanks; and center wing fuel tanks; as applicable; is also acceptable for compliance with the corresponding requirements of paragraph (g)(1) of this AD, if done before the effective date of this AD, in accordance with Boeing Service Bulletin DC10-28-252, dated November 25, 2008.

(i) Installing an in-line fuse in each float level switch, including sleeving the wires between the fuel tank and the in-line fuse, in fuel tanks 1, 2, and 3; upper and lower auxiliary fuel tanks; forward auxiliary fuel tank; center wing fuel tanks; and tail fuel tank; as applicable; is also acceptable for compliance with the corresponding requirements of paragraph (g)(2) of this AD if done before the effective date of this AD, in accordance with Boeing Service Bulletin MD11-28-132, dated November 25, 2008.

Alternative Methods of Compliance (AMOCs)

(j)(1) The Manager, Los Angeles Aircraft Certification Office (ACO), FAA, has the authority to approve AMOCs for this AD, if requested using the procedures found in 14 CFR 39.19. Send information to ATTN: Philip Kush, Aerospace Engineer, Propulsion Branch, ANM-140L, FAA, Los Angeles Aircraft Certification Office, 3960 Paramount Boulevard, Lakewood, California 90712-4137; telephone (562) 627-5263; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(k) You must use Boeing Service Bulletin DC10-28-252, Revision 1, dated January 6, 2010; or Boeing Service Bulletin MD11-28-132, Revision 1, dated July 6, 2010; as applicable; to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on September 16, 2010.
Robert D. Breneman,
Acting Manager, Transport Airplane Directorate, Aircraft Certification Service.

[FR Doc. 2010-24172 Filed 9-30-10; 8:45 am]

BILLING CODE 4910-13-P